DEPARTMENT OF ENERGY

Federal Energy Regulatory Commission

Combined Notice of Filings #1

Take notice that the Commission received the following exempt wholesale generator filings:

Docket Numbers: EG20-95-000.

Applicants: Las Majadas Wind Farm, LLC.

Description: Notice of Self-Certification of Exempt Wholesale Generator Status of Las Majadas Wind Farm, LLC.

Filed Date: 3/5/20.

Accession Number: 20200305-5198.

Comments Due: 5 p.m. ET 3/26/20.

Docket Numbers: EG20-96-000.

Applicants: Milligan 1 Wind LLC.

Description: Notice of Self-Certification of Exempt Wholesale Generator Status of Milligan 1 Wind LLC.

Filed Date: 3/5/20.

Accession Number: 20200305-5199.

Comments Due: 5 p.m. ET 3/26/20.

Docket Numbers: EG20-97-000.

Applicants: King Plains Wind Project, LLC.

Description: Notice of Self-Certification of Exempt Wholesale Generator Status of King Plains Wind Project, LLC.

Filed Date: 3/10/20.

Accession Number: 20200310-5206.

Comments Due: 5 p.m. ET 3/31/20.

Take notice that the Commission received the following electric rate filings:

Docket Numbers: ER17-996-001; EL16-92-002.

Applicants: New York Independent System Operator, Inc.

Description: Notice of Compliance Plan and Request for Conditional Waiver of the New York Independent System Operator, Inc.

Filed Date: 3/11/20.

Accession Number: 20200311-5283.

Comments Due: 5 p.m. ET 4/1/20.

Docket Numbers: ER18-1646-000; ER18-1646-001; EL18-96-000.

Applicants: Electric Energy, Inc.

Description: Response to November 20, 2020 Deficiency Letter of Electric Energy, Inc.

Filed Date: 3/12/20.

Accession Number: 20200312-5195.

Comments Due: 5 p.m. ET 4/2/20.

Docket Numbers: ER20-924-001.

Applicants: PacifiCorp.

Description: Tariff Amendment: OATT Queue Reform—Deficiency dated 3/6/2020 to be effective 4/1/2020.

Filed Date: 3/13/20.

Accession Number: 20200313-5149.

Comments Due: 5 p.m. ET 4/3/20.

Docket Numbers: ER20-1258-000.

Applicants: PJM Interconnection, L.L.C.

Description: § 205(d) Rate Filing: Revisions to Sch. 12-Appx A: February 2020 RTEP, 30-day Comments due to be effective 6/10/2020.

Filed Date: 3/12/20.

Accession Number: 20200312-5168.

Comments Due: 5 p.m. ET 4/2/20.

Docket Numbers: ER20-1259-000.

Applicants: Midcontinent Independent System Operator, Inc.

Description: § 205(d) Rate Filing: 2020-03-13_SA 3239 MEC-Wisconsin Power and Light 1st Rev GIA (J534) to be effective 2/28/2020.

Filed Date: 3/13/20.

Accession Number: 20200313-5020.

Comments Due: 5 p.m. ET 4/3/20.

Docket Numbers: ER20-1260-000.

Applicants: Midcontinent Independent System Operator, Inc., Otter Tail Power Company.

Description: § 205(d) Rate Filing: 2020-03-13_SA 3459 OTP-Dakota Range III FSA (J488) BSP 2nd Transformer to be effective 3/14/2020.

Filed Date: 3/13/20.

Accession Number: 20200313-5064.

Comments Due: 5 p.m. ET 4/3/20.

Docket Numbers: ER20-1261-000.

Applicants: Midcontinent Independent System Operator, Inc., Otter Tail Power Company.

Description: § 205(d) Rate Filing: 2020-03-13_SA 3460 OTP-Tatanka Ridge Wind FSA (J493) BSP 2nd Transformer to be effective 3/14/2020.

Filed Date: 3/13/20.

Accession Number: 20200313-5072.

Comments Due: 5 p.m. ET 4/3/20.

Docket Numbers: ER20-1262-000.

Applicants: Midcontinent Independent System Operator, Inc., Otter Tail Power Company.

Description: § 205(d) Rate Filing: 2020-03-13_SA 3461 OTP-Deuel Harvest Wind Energy FSA (J526) BSP 2nd Transformer to be effective 3/14/2020.

Filed Date: 3/13/20.

Accession Number: 20200313-5119.

Comments Due: 5 p.m. ET 4/3/20.

Docket Numbers: ER20-1263-000.

Applicants: Southwest Power Pool, Inc.

Description: § 205(d) Rate Filing: Tariff Revisions to Clarify Process for Execution of Real-Time Balancing Market to be effective 5/13/2020.

Filed Date: 3/13/20.

Accession Number: 20200313-5086.

Comments Due: 5 p.m. ET 4/3/20.

Docket Numbers: ER20-1264-000.

Applicants: Midcontinent Independent System Operator, Inc., MidAmerican Energy Company.

Description: § 205(d) Rate Filing: 2020-03-13_SA 2193 MidAmerican-CIPCO 2nd Rev GFA 472 to be effective 3/14/2020.

Filed Date: 3/13/20.

Accession Number: 20200313-5100.

Comments Due: 5 p.m. ET 4/3/20.

Docket Numbers: ER20-1265-000.

Applicants: UNS Electric, Inc.

Description: Compliance filing: Order No. 864 Compliance Filing to be effective 6/1/2020.

Filed Date: 3/13/20.

Accession Number: 20200313-5104.

Comments Due: 5 p.m. ET 4/3/20.

Docket Numbers: ER20-1267-000.

Applicants: Northern Indiana Public Service Company.

Description: § 205(d) Rate Filing: Filing of a CIAC Agreement to be effective 3/1/2020.

Filed Date: 3/13/20.

Accession Number: 20200313-5120.

Comments Due: 5 p.m. ET 4/3/20.

Docket Numbers: ER20-1281-000.

Applicants: California Independent System Operator Corp.

Description: Compliance filing: 2020-03-13 Reconcile Overlapping Approved Tariff Records to be effective 12/31/2019.

Filed Date: 3/13/20.

Accession Number: 20200313-5156.

Comments Due: 5 p.m. ET 4/3/20.

Take notice that the Commission received the following electric securities filings:

Docket Numbers: ES20-15-000.

Applicants: Cross-Sound Cable Company, LLC.

Description: Amendment to February 12, 2020 Application Under Section 204 of the Federal Power Act for Authorization to Incur Obligations and Liabilities, et al. of Cross-Sound Cable Company, LLC.

Filed Date: 3/9/20.

Accession Number: 20200309-5258.

Comments Due: 5 p.m. ET 3/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2020.
Nathaniel J. Davis, Sr.,
Deputy Secretary.

[FR Doc. 2020-05731 Filed 3-18-20; 8:45 am]

BILLING CODE 6717-01-P